DEPARTMENT OF JUSTICE

Notice of Lodging of Consent Decree Pursuant to the Clean Air Act (“CAA”)

Pursuant to 28 CFR 50.7, notice is hereby given that on May 5, 2006, a Consent Decree in the case of United States of America v. Coastal Lumber Company, Civil Action No. 4:01-cv-238 SPM, was lodged in the United States District Court for the Northern District of Florida.

In this action, the United States sought injunctive relief and civil penalties under Section 113(b) of the Clean Air Act (“CAA”), 42 U.S.C. 7413(b). The alleged violations include the failure to install pollution control devices and obtain permits required by the CAA, and failure to comply with a testing order issued by EPA pursuant to Section 114 of the CAA, 42 U.S.C. 7414, at Coastal's plywood manufacturing facility, located in Havana, FL. Under the proposed Consent Decree, Coastal will conduct emissions tests, the results of which will be used to determine if Coastal is required to install pollution controls at the facility. The Consent Decree also requires that Coastal pay a civil penalty of $60,000 in connection with its failure to comply with the test order issued by EPA pursuant to Section 114 of the CAA.

The Department of Justice will receive, for a period of thirty (30) days from the date of this publication, comments relating to the proposed Consent Decree. Comments should be addressed to the Assistant Attorney General, Environment and Natural Resources Division, U.S. Department of Justice, P.O. Box 7611, Washington, DC 20044-7611; and refer to United States of America v. Coastal Lumber Company, DOJ # 90-5-2-1-06361. The proposed Consent Decree may be examined at the United States Environmental Protection Agency, EPA Region IV, 61 Forsyth Street, Atlanta, GA 30303, ATTN: Gregory Tan. During the comment period, the Consent Decree, may also be examined on the following Department of Justice Web site, http://www.usdoj.gov/enrd/open.html.

A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Decree from the Consent Decree Library, please enclose a check in the amount of $12.75 (25 cents per page reproduction cost for 51 pages) payable to the U.S. Treasury.

Henry Friedman,
Assistant Section Chief, Environmental Enforcement Section.

[FR Doc. 06-4611 Filed 5-16-06; 8:45 am]

BILLING CODE 4410-15-M